DEPARTMENT OF TRANSPORTATION

Federal Aviation Administration

14 CFR Part 71

[Docket No. FAA-2004-16989; Airspace Docket No. 04-ACE-7]

Modification of Class E Airspace; Hays, KS

Correction

In rule document 04-5026 beginning on page 10330 in the issue of Friday, March 5, 2004, make the following correction:

§71.1 [Corrected]

On page 10331, in the first column, in §71.1, under the heading “ACE KS E2 Hays, KS”, in the 10th line, “160°” should read “162°”.

[FR Doc. C4-5026 Filed 3-10-04; 8:45 am]

BILLING CODE 1505-01-D

DEPARTMENT OF THE TREASURY

Office of the Comptroller of the Currency

Office of Thrift Supervision

FEDERAL RESERVE SYSTEM

FEDERAL DEPOSIT INSURANCE CORPORATION

Agency Information Collection Activities: Submission for OMB Review; Joint Comment Request

Correction

In notice document 04-4839 beginning on page 10294 in the issue of Thursday, March 4, 2004 make the following correction:

On page 10294, in the third column, under the DATES heading, in the second line, “April 15, 2004” should read “April 5, 2004”.

[FR Doc. C4-4839 Filed 3-10-04; 8:45 am]

BILLING CODE 1505-01-D